NATIONAL AERONAUTICS AND SPACE ADMINISTRATION AGENCY

[Notice 01-055]

Information Collection: Submission for OMB Review, Comment Request

AGENCY: National Aeronautics and Space Administration (NASA).

ACTION: Notice of agency report forms under OMB review.

SUMMARY: The National Aeronautics and Space Administration has submitted to the Office of Management and Budget (OMB) the following proposal for the collection of information under the provisions of the Paperwork Reduction Act (44 U.S.C. Chapter 35).

DATES: Comments on this proposal should be received on or before June 4, 2001.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Reports: None.

Title: AST—Technology Utilization.

OMB Number: 2700-0009.

Type of review: Extension.

Need and Uses: NASA is required to collect, and NASA contractors/recipients performing research and development are required to actively search for, identify, and report promptly, all new technologies (i.e., “inventions, discoveries, improvements, and innovations”) resulting from work performed under such contracts and agreements.

Affected Public: Business or other for-profit, Not-for-profit institutions.

Number of Respondents: 372.

Responses Per Respondent: 2.5.

Annual Responses: 930.

Hours Per Request: ¾ to 1 hour.

Annual Burden Hours: 895.

Frequency of Report: Annually.

David B. Nelson,
Deputy Chief Information Officer, Office of the Administrator.

[FR Doc. 01-11064 Filed 5-2-01; 8:45 am]

BILLING CODE 7510-01-U